DEPARTMENT OF HEALTH AND HUMAN SERVICES

National Institutes of Health

Submission for OMB Review; 30-Day Comment Request; Cancer Prevention Fellowship Program Fellowship Program and Summer Curriculum Applications

AGENCY: National Institutes of Health, Department of Health and Human Services.

ACTION: Notice.

SUMMARY: In compliance with the Paperwork Reduction Act of 1995, the National Institutes of Health (NIH) has submitted to the Office of Management and Budget (OMB) a request for review and approval of the information collection listed below. This proposed information collection was previously published in the Federal Register on June 17, 2016 page 39679 and allowed 60-days for public comment. No public comments were received. The purpose of this notice is to allow an additional 30 days for public comment.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Annalisa Gnoleba, Public Health Analyst, Cancer Prevention Fellowship Program, 9609 Medical Center Drive, Room 2E-108 Bethesda, Maryland 20892-9776 or call non-toll-free number (240)-276-7146 or email your request, including your address to: gnolebaad@mail.nih.gov.

SUPPLEMENTARY INFORMATION: The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Cancer Prevention Fellowship Program Fellowship Program and Summer Curriculum Applications (NCI), New- Existing Information Collection without an OMB Number, National Cancer Institute (NCI), National Institutes of Health (NIH).

Need and Use of Information Collection: The National Cancer Institute, Division of Cancer Prevention, Cancer Prevention Fellowship Program (CPFP) administers a variety of programs and initiatives to recruit post-doctoral educational level individuals into the Intramural and extramural Research Program to facilitate their development into future scientists. CPFP trains post-doctoral fellows through full time fellowships in preparation for research careers in cancer prevention and control. The proposed information collection involves brief online applications completed by applicants to the full time and the summer curriculum programs. Full-time fellowships include: Non-FTE fellowships for US citizens and permanent residents and fellows that are part of the Irish Consortia. These applications are essential to the administration of these training programs as they enable CPFP to determine the eligibility and quality of potential awardees; to assess their potential as future scientists; to determine where mutual research interests exist; and to make decisions regarding which applicants will be proposed and approved for traineeship awards. In each case, completing the application is voluntary, but in order to receive due consideration, the prospective trainee is encouraged to complete all relevant fields. The information is for internal use to make decisions about prospective fellows and students that could benefit from the CPFP program.

OMB approval is requested for 3 years. There are no costs to respondents other than their time. The total estimated annualized burden hours are 400.

Estimated Annualized Burden Hours
Form | Type of respondent | Estimated number of respondents | Estimated number of responses annually per respondent | Estimated total annual burden hours | Estimated total annual burden hours
CPFP Fellowship Application (Attachment 1) | Student Applicants | 150 | 1 | 1 | 150
Reference Recommendation Letters (Attachment 3) | Contributor | 150 | 1 | 1 | 150
CPFP Summer Curriculum Application (Attachment 2) | Student Applicants | 100 | 1 | 1 | 100
Total |  | 400 | 400 |  | 400

Dated: August 31, 2016.
Karla Bailey,
Project Clearance Liaison, National Cancer Institute, NIH.

[FR Doc. 2016-21518 Filed 9-7-16; 8:45 am]

BILLING CODE 4140-01-P